EXPORT-IMPORT BANK

Notice of Sunshine Act Meeting

ACTION: Notice of a Partially Open Meeting of the Board of Directors of the Export-Import Bank of the United States.

TIME AND PLACE: Thursday, November 1, 2012 at 9:30 a.m. The meeting will be held at Ex-Im Bank in Room 321, 811 Vermont Avenue NW., Washington, DC 20571.

OPEN AGENDA ITEMS: Item No. 1: Ex-Im Bank Advisory Committee for 2013.

PUBLIC PARTICIPATION: The meeting will be open to public observation for Item No. 1 only.

FURTHER INFORMATION CONTACT: For further information, contact: Office of the Secretary, 811 Vermont Avenue NW., Washington, DC 20571 (202) 565-3336.

Lisa V. Terry,
Assistant General Counsel.

[FR Doc. 2012-26282 Filed 10-23-12; 4:15 pm]

BILLING CODE 6690-01-P